DEPARTMENT OF TRANSPORTATION

Federal Aviation Administration

[Summary Notice No. PE-2001-80]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on October 12, 2001.
Donald P. Byrne,
Assistant Chief Counsel for Regulations.

Dispositions of Petitions

Docket No.: FAA-2001-10283 (previously Docket No. 24041).

Petitioner: Butler Aircraft Co.

Section of 14 CFR Affected: 14 CFR 91.529(a)(1).

Description of Relief Sought/Disposition: To permit Butler to operate its McDonnell Douglas DC-6 and DC-7 airplanes without a flight engineer during flightcrew training, ferry operations, and test flights that are conducted to prepare for firefighting operations carried out under 14 CFR part 137.

Grant, 10/02/2001, Exemption No. 2989K

Docket No.: FAA-2001-9782 (previously Docket No. 23358).

Petitioner: Clarke Environmental Mosquito Management, Inc.

Section of 14 CFR Affected: 14 CFR 91.313(d).

Description of Relief Sought/Disposition: To permit CEMM to carry passengers in its Bell 47G-4A and 47G-3B-1 helicopters and its Piper PA23 Aztec 250 airplane, certificated in the restricted category, while performing aerial-site survey flights.

Grant, 10/02/2001, Exemption No. 6701B

Docket No.: FAA-2001-9811 (previously Docket No. 27372).

Petitioner: Camera Work, Inc. dba Fly BVI, Ltd.

Section of 14 CFR Affected: 14 CFR 61.89(a)(5).

Description of Relief Sought/Disposition: To permit Fly BVI student pilots to fly between Tortola, British Virgin Islands, and the airports of the U.S. Virgin Islands and Puerto Rico while fulfilling the cross-country requirements for a private pilot certificate.

Grant, 10/02/2001, Exemption No. 5796D

Docket No.: FAA-2001-10356.

Petitioner: United States Army Special Operations Command, 160th Special Operations Aviation Regiment.

Section of 14 CFR Affected: 14 CFR 91.177(a)(2) and 91.179(b)(1).

Description of Relief Sought/Disposition: To permit properly equipped USASOC aircraft to conduct low-level operations without complying with en route minimum altitudes for flight under instrument flight rules (IFR) or direction of flight requirements for IFR en route segment in uncontrolled airspace.

Grant, 09/29/2001, Exemption No. 7631

[FR Doc. 01-26229 Filed 10-17-01; 8:45 am]

BILLING CODE 4910-13-M